DEPARTMENT OF LABOR

Employment and Training Administration

[TA-W-52,750]

Penn-Union Corp., Nesco Division, Edinboro, PA; Notice of Termination of Investigation

Pursuant to section 221 of the Trade Act of 1974, as amended, an investigation was initiated on September 3, 2003, in response to a petition filed on behalf of workers at Penn-Union Corporation, Nesco Division, Edinboro, Pennsylvania.

The petitioners have requested that the petition be withdrawn. Consequently, the investigation has been terminated.

Signed at Washington, DC, this 29th day of September, 2003.
Richard Church,
Certifying Officer, Division of Trade Adjustment Assistance.

[FR Doc. 03-27438 Filed 10-30-03; 8:45 am]

BILLING CODE 4510-30-P